DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G, as amended, by the Health Insurance Portability and Accountability Act (HIPPA) of 1996. This listing contains the name of each individual losing United States citizenship (within the meaning of section 877(a)) with respect to whom the Secretary received information during the quarter ending June 30, 2006.

Last name | First name | Middle name/ initials
Pedersen | Torben | Bach.
Pedersen | Christine |
CHAN | ABRAHAM | LOK-SHUNG.
FANG | ALEX |
LOPEZ | RAILI | K.
Hsu | Joyce | I-Yin.
GURDJIAN | ALEXIS | P.
EISENBEISS | PHILIP | WILLIAM.
GOURY DU ROSLAN | MARIE | EDMEE C.
LE TOURNEUR | JULIEN | DIDIER.
BELENKAYA | TATYANA |
Holliday-Smith | Roderic |
FUJIMORI | MITSUKO |
CADY | SUSANNE | CARMEN BOOTH.
Kanai | Umiko |
KANE | PATRICIA | MARY.
Cookson | Adam |
GRIFFIN | STEVEN | EUGENE.
HAMMES | VOLKER | ALFONS.
Ko | Maria | Yin.
Fitzjohn | Naomi |
Fitzjohn | Jacqueline |
Fitzjohn | David | Roy.
HUNT | GISELA |
VLAD | CONSTANTIN | MIRCEA.
Weibel | Dominique |
Chan | Henry | Homing.
BRIGGS | HILARY | BONNIE.
GALLET | ALAIN |
PALO | ANTERO | E.
SETHI | ANOOP |

Dated: July 25, 2006.
Angie Kaminski,
Examinations Operations, Philadelphia Compliance Services.

[FR Doc. E6-14188 Filed 8-25-06; 8:45 am]

BILLING CODE 4830-01-P